INTERNATIONAL TRADE COMMISSION

[Investigation No. 332-427]

U.S. Market Conditions for Certain Wool Articles

AGENCY: International Trade Commission.

ACTION: Notice of second annual report, scheduling of public hearing, and request for public comments.

EFFECTIVE DATE: January 7, 2002.

SUMMARY: The Commission has announced the schedule for its second annual report in investigation No. 332-427, U.S. Market Conditions for Certain Wool Articles, instituted under section 332(g) of the Tariff Act of 1930 (19 U.S.C. 1332(g)) on February 12, 2001, at the request of the United States Trade Representative (USTR).

FOR FURTHER INFORMATION CONTACT: For general information, contact Lisa Ferens (202-205-3486; lferens@usitc.gov) of the Office of Industries; for information on legal aspects, contact William Gearhart (202-205-3091; wgearhart@usitc.gov) of the Office of the General Counsel. The media should contact Margaret O'Laughlin, Public Affairs Officer (202-205-1819). Hearing impaired individuals may obtain information on this matter by contacting the Commission's TDD terminal on 202-205-1810. Persons with mobility impairments who will need special assistance in gaining access to the Commission should contact the Office of the Secretary at 202-205-2000. General information about the Commission may be obtained by accessing its Internet server (http://www.usitc.gov).

Background:

As requested by the USTR, the Commission will provide information for 2001 and year-to-date 2001-02 on U.S. market conditions, including domestic demand, domestic supply, and domestic production for men's and boys' worsted wool suits, suit-type jackets, and trousers; worsted wool fabrics and yarn used in the manufacture of such clothing; and wool fibers used in the manufacture of such fabrics and yarn. Also, as requested by the USTR, the Commission will provide, to the extent possible, data on:

(1) Increases or decreases in sales and production of the subject domestically-produced worsted wool fabrics;

(2) Increases or decreases in domestic production and consumption of the subject apparel items;

(3) The ability of domestic producers of the subject worsted wool fabrics to meet the needs of domestic manufacturers of the subject apparel items in terms of quantity and ability to meet market demands for the apparel items;

(4) Sales of the subject worsted wool fabrics lost by domestic manufacturers to imports benefiting from the temporary duty reductions on certain worsted wool fabrics under the tariff-rate quotas (TRQs) provided for in headings 9902.51.11 and 9902.51.12 of the Harmonized Tariff Schedule of the United States (HTS);

(5) Loss of sales by domestic manufacturers of the subject apparel items related to the inability to purchase adequate supplies of the subject worsted wool fabrics on a cost competitive basis; and

(6) The price per square meter of imports and domestic sales of the subject worsted wool fabrics. The USTR requested that the Commission submit its second (and final) annual report under this investigation by September 16, 2002. The USTR has stated that it will provide copies of the Commission's confidential reports to the U.S. Department of Commerce. The USTR requested that the Commission issue a public version of the annual report, as soon as possible thereafter, with any business confidential information deleted. The Commission submitted its first annual report to the USTR on September 17, 2001.

Public Hearing:

A public hearing in connection with preparation of the second annual report will be held at the U.S. International Trade Commission Building, 500 E Street SW., Washington, DC, beginning at 9:30 a.m. on April 18, 2002. All persons shall have the right to appear, by counsel or in person, to present information and to be heard. Requests to appear at the public hearing should be filed with the Secretary, United States International Trade Commission, 500 E Street SW., Washington, DC 20436, no later than 5:15 p.m., April 2, 2002. Any prehearing briefs (original and 14 copies) should be filed not later than 5:15 p.m., April 4, 2002. The deadline for filing post-hearing briefs or statements is 5:15 p.m., April 29, 2002. In the event that, as of the close of business on April 2, 2002, no witnesses are scheduled to appear at the hearing, the hearing will be canceled. Any person interested in attending the hearing as an observer or non-participant may call the Secretary of the Commission (202-205-1806) after April 2, 2002, to determine whether the hearing will be held.

Written Submissions:

In connection with preparation of the second annual report for the USTR, interested parties are invited to submit written statements (original and 14 copies) concerning the matters to be addressed by the Commission. In lieu of or in addition to participating in the above-referenced hearing, interested parties are invited to submit written statements (original and 14 copies) concerning the matters to be addressed by the Commission by no later than the close of business on April 29, 2002. Commercial or financial information that a person desires the Commission to treat as confidential must be submitted on separate sheets of paper, each marked “Confidential Business Information” at the top. All submissions requesting confidential treatment must conform with the requirements of section 201.6 of the Commission's Rules of Practice and Procedure (19 CFR 201.6). The Commission's Rules do not authorize filing of submissions with the Secretary by facsimile or electronic means. All written submissions, except for confidential business information, will be made available in the Office of the Secretary of the Commission for inspection by interested parties. The Commission may include confidential business information submitted in the course of this investigation in its reports to the USTR. In the public version of these reports, however, the Commission will not publish confidential business information in a manner that would reveal the individual operations of the firm supplying the information. All submissions should be addressed to the Secretary, U.S. International Trade Commission, 500 E Street SW., Washington, DC 20436.

List of Subjects:

Tariffs, Imports, Wool, Fabric, and Suits.

Issued: January 8, 2002.
Marilyn R. Abbott,
Acting Secretary.

[FR Doc. 02-889 Filed 1-11-02; 8:45 am]

BILLING CODE 7020-02-P